DEPARTMENT OF HEALTH AND HUMAN SERVICES

Centers for Disease Control and Prevention

[60Day-05AI]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The Minority HIV/AIDS Research Initiative: Gay and Non-gay Black and Latino Men Who Have Sex with Men—New—National Center for HIV, STD, and TB Prevention (NCHSTP), Centers for Disease Control and Prevention (CDC).

Background

CDC is requesting a two year approval from the Office of Management and Budget (OMB) to administer an epidemiological survey on the internet. As part of the Minority HIV/AIDS Research Initiative (MARI), CDC is funding an internet study that examines behaviors of gay and non-gay Black and Latino men who have sex with men. The objectives of the study are threefold: (1) To determine if Black and Latino men who have sex with men (MSM) who use the internet to meet sexual partners report greater HIV-related sexual and drug risks than those who do not; (2) to identify respondents' non-internet sex-seeking behaviors; and (3) to explore to what degree Black and Latino MSM with internet access view this medium as a potential tool for HIV prevention.

African American and Latino men, especially those men who have sex with men, continue to be an extremely vulnerable population affected by high rates of HIV/AIDS. The impact of HIV/AIDS on African American and Latino communities has been devastatingly disproportionate as compared to European American populations. Through December 2001, CDC reported that while African Americans represented only 12% of the total U.S. population, they accounted for almost 38% of all of the AIDS cases in this country. Similarly, the Latino population represented 13% of the total U.S. population, but accounted for 19% of the total number of new AIDS cases. For all men, the exposure category of “men who have sex with men” represented the largest transmission route for HIV infection.

While existing studies show that Black and Latino MSM may be at greater risk for contracting and transmitting HIV/AIDS to partners, CDC knows little about Black and Latino MSM using the internet and/or potential avenues for HIV prevention with this population since most of the studies conducted thus far have been with White MSM samples. Data gathered from this study will guide CDC development of risk reduction programs for this high-risk population.

A convenience sample of 500 Black (African American, African-Latin, African-Caribbean, African, Mixed race) and 500 Latino (Caribbean, Central or South American ancestry) MSM will be asked to respond to a one-time survey of attitudes, knowledge and behavior related to internet sex seeking behavior and HIV/STD (sexually transmitted disease) transmission. This survey will take approximately 30 minutes to complete and will include questions on the following topics: demographics (i.e., age, education, income, HIV status, etc.); sexual identity; racial/ethnic identity; homophobia; HIV/AIDS knowledge, attitudes, behavior; perceived HIV/AIDS susceptibility; STD history; characteristics of sexual partners and perceived HIV/AIDS susceptibility of sexual partners; risk behavior specific to online versus traditional venues; use of screen names and cruising sites; sexual compulsivity; substance use; time spent online and time spent sex seeking. The only cost to respondents will be their time to complete the survey. The estimated annualizdd burden is 500 hours.

Annualized Burden Table
Respondents | Number of respondents | Number of responses per respondent | Average burden response/hours (in hours) | Total burden hours
Black Men | 500 | 1 | 30/60 | 250
Latino Men | 500 | 1 | 30/60 | 250
Total | 1000 |  |  | 500

Dated: November 29, 2004.
B. Kathy Skipper,
Acting Director, Management Analysis and Services Office, Centers for Disease Control and Prevention.

[FR Doc. 04-26659 Filed 12-2-04; 8:45 am]

BILLING CODE 4163-18-P